DEPARTMENT OF COMMERCE

National Oceanic and Atmospheric Administration

RIN 0648-XV117

Mid-Atlantic Fishery Management Council (MAFMC); Public Meetings

AGENCY: National Marine Fisheries Service (NMFS), National Oceanic and Atmospheric Administration (NOAA), Commerce.

ACTION: Notice; public meetings.

SUMMARY: The Mid-Atlantic Fishery Management Council's (MAFMC's) Summer Flounder, Scup, and Black Sea Bass Monitoring Committee and Bluefish Monitoring Committee will hold a public meeting.

DATES: The two Monitoring Committees will hold back to back meetings on Wednesday, November 13 and Thursday, November 14, 2019. The Summer Flounder, Scup, and Black Sea Bass Monitoring Committee meeting will be held from 1 p.m. until 5 p.m. on Wednesday, November 13, 2019, and on Thursday, November 14, 2019, from 9 a.m. to 11:30 a.m. The Bluefish Monitoring Committee will meet from 1 p.m. until 4 p.m. on Thursday, November 14, 2019. For agenda details, see SUPPLEMENTARY INFORMATION.

ADDRESSES:

Meeting address: The meeting will be held at the Hilton Garden Inn Baltimore Inner Harbor, 625 S President St., Baltimore, MD 21202; telephone: (410) 234-0065.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee and the Bluefish Monitoring Committee will meet to develop recommendations for 2020 recreational management measures (i.e., possession limits, fish size limits, and/or open and closed seasons) for summer flounder, scup, black sea bass, and bluefish. For summer flounder, the Monitoring Committee will consider the use of coastwide measures or conservation equivalency and associated management measures. For black sea bass, the Monitoring Committee will consider the use of federal waters measures or conservation equivalency and associated management measures. For scup and bluefish, the respective Monitoring Committees will consider federal waters management measures and may discuss approaches to state waters measures, which will likely be considered by the Atlantic States Marine Fisheries Commission in early 2020. This will be an in-person meeting, but a listen-only webinar connection option will be available. Meeting materials will be posted to http://www.mafmc.org/council-events/2019/sfsbsb-mc-nov-13-14.

Special Accommodations

The meetings are physically accessible to people with disabilities. Requests for sign language interpretation or other auxiliary aids should be directed to M. Jan Saunders at the Mid-Atlantic Council Office, (302) 526-5251, at least 5 days prior to the meeting date.

Dated: October 23, 2019.
Tracey L. Thompson,
Acting Deputy Director, Office of Sustainable Fisheries, National Marine Fisheries Service.

[FR Doc. 2019-23446 Filed 10-25-19; 8:45 am]

BILLING CODE 3510-22-P